INTERNTIONAL TRADE COMMISSION

[Investigation Nos. 701-TA-777 and 731-TA-1762-1763 (Preliminary)]

High Purity Dissolving Pulp From Brazil and Norway; Determinations

On the basis of the record ¹ developed in the subject investigations, the United States International Trade Commission (“Commission”) determines, pursuant to the Tariff Act of 1930 (“the Act”), that there is a reasonable indication that an industry in the United States is materially injured by reason of imports of high purity dissolving pulp (“HPDP”) from Brazil and Norway, provided for in subheading 4702.00.00 of the Harmonized Tariff Schedule of the United States, that are alleged to be sold in the United States at less than fair value (“LTFV”) and imports of the subject merchandise from Brazil that are alleged to be subsidized by the government of Brazil.2 3

¹ The record is defined in § 207.2(f) of the Commission's Rules of Practice and Procedure (19 CFR 207.2(f)).

² 90 FR 43168 and 43174 (September 8, 2025).

³ Commissioner David S. Johanson determines that there is a reasonable indication that an industry in the United States is threatened with material injury by reason of imports of HPDP from Brazil and Norway.

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Any other party may file an entry of appearance for the final phase of the investigations after publication of the final phase notice of scheduling. Industrial users, and, if the merchandise under investigation is sold at the retail level, representative consumer organizations have the right to appear as parties in Commission antidumping and countervailing duty investigations. The Secretary will prepare a public service list containing the names and addresses of all persons, or their representatives, who are parties to the investigations. As provided in section 207.20 of the Commission's rules, the Director of the Office of Investigations will circulate draft questionnaires for the final phase of the investigations to parties to the investigations, placing copies on the Commission's Electronic Document Information System (EDIS, https://edis.usitc.gov), for comment.

Background

On August 12, 2025, Rayonier Advanced Materials, Inc., Jacksonville, Florida and the United Steel, Paper and Forestry, Rubber, Manufacturing, Energy, Allied Industrial and Service Workers International Union, AFL-CIO Washington, DC filed petitions with the Commission and Commerce, alleging that an industry in the United States is materially injured or threatened with material injury by reason of subsidized imports of HPDP from Brazil and LTFV imports of HPDP from Brazil and Norway. Accordingly, effective August 12, 2025, the Commission instituted countervailing duty investigation No.701-TA-777 and antidumping duty investigation Nos. 731-TA-1762-1763 (Preliminary).

Notice of the institution of the Commission's investigations and of a public conference to be held in connection therewith was given by posting copies of the notice in the Office of the Secretary, U.S. International Trade Commission, Washington, DC, and by publishing the notice in the Federal Register of August 15, 2025 (90 FR 39419). The Commission conducted its conference on September 2, 2025. All persons who requested the opportunity were permitted to participate.

The Commission made these determinations pursuant to §§ 703(a) and 733(a) of the Act (19 U.S.C. 1671b(a) and 1673b(a)). It completed and filed its determinations in these investigations on September 26, 2025. The views of the Commission are contained in USITC Publication 5680 (October 2025), entitled High Purity Dissolving Pulp from Brazil and Norway: Investigation Nos. 701-TA-777 and 731-TA-1762-1763 (Preliminary).

By order of the Commission.
Issued: September 26, 2025.
Lisa Barton,
Secretary to the Commission.

[FR Doc. 2025-19027 Filed 9-29-25; 8:45 am]

BILLING CODE 7020-02-P